ENVIRONMENTAL PROTECTION AGENCY

40 CFR Part 52

[EPA-R09-OAR-2012-0721; FRL-9745-3]

Finding of Substantial Inadequacy of Implementation Plan; Call for California State Implementation Plan Revision; South Coast; Reopening of Comment Period

AGENCY: Environmental Protection Agency (EPA).

ACTION: Proposed rule; reopening of comment period.

SUMMARY: EPA is reopening the public comment period for a proposal published in the Federal Register on September 19, 2012. In that action, in response to a remand by the Ninth Circuit Court of Appeals, and pursuant to the Clean Air Act, EPA proposed to find that the California State Implementation Plan (SIP) for the Los Angeles-South Coast Air Basin (South Coast) is substantially inadequate to comply with the obligation to adopt and implement a plan providing for attainment of the 1-hour ozone standard. If EPA finalizes this proposed finding of substantial inadequacy as proposed, California would be required revise its SIP to correct these deficiencies within 12 months of the effective date of our final rule. Two commentors requested an extension of the comment period for this proposed rulemaking. EPA is now reopening the public comment period.

DATES: The comment period for the proposed rule published on September 19, 2012 (77 FR 58072) is reopened. Comments must be received on or before November 8, 2012.

ADDRESSES: Submit comments, identified by docket number EPA-R09-OAR-2012-0721, by one of the following methods:

• Federal eRulemaking Portal: http://www.regulations.gov. Follow the on-line instructions for submitting comments.

• Email: tax.wienke@epa.gov.

• Mail or deliver: Wienke Tax, Air Planning Office, U.S. Environmental Protection Agency, Region 9, Mailcode AIR-2, 75 Hawthorne Street, San Francisco, California 94105-3901.

Instructions: All comments will be included in the public docket without change and may be made available online at http://www.regulations.gov, including any personal information provided, unless the comment includes information claimed to be Confidential Business Information (CBI) or other information whose disclosure is restricted by statute. Information that you consider CBI or otherwise protected should be clearly identified as such and should not be submitted through http://www.regulations.gov or email. The http://www.regulations.gov Web site is an “anonymous access” system, and EPA will not know your identity or contact information unless you provide it in the body of your comment. If you send an email comment directly to EPA, your email address will be automatically captured and included as part of the public comment. If EPA cannot read your comment due to technical difficulties and cannot contact you for clarification, EPA may not be able to consider your comment.

Docket: The index to the docket for this action is available electronically on the http://www.regulations.gov Web site and in hard copy at EPA Region IX, 75 Hawthorne Street, San Francisco, California 94105. While all documents in the docket are listed in the index, some information may be publicly available only at the hard copy location (e.g., copyrighted material), and some may not be publicly available at either location (e.g., CBI). To inspect the hard copy materials, please schedule an appointment during normal business hours with the contact listed in the FOR FURTHER INFORMATION CONTACT section below.

FOR FURTHER INFORMATION CONTACT: Wienke Tax, Air Planning Office, U.S. Environmental Protection Agency, Region 9, Mail Code AIR-2, 75 Hawthorne Street, San Francisco, California 94105-3901, 415-947-4192, tax.wienke@epa.gov.

SUPPLEMENTARY INFORMATION: EPA published a proposed rule on September 19, 2012 (77 FR 58072). In that action, in response to a remand by the Ninth Circuit Court of Appeals, and pursuant to the Clean Air Act, EPA proposed to find that the California State Implementation Plan (SIP) for the Los Angeles-South Coast Air Basin (South Coast) is substantially inadequate to comply with the obligation to adopt and implement a plan providing for attainment of the 1-hour ozone standard. If the action is finalized as proposed, California would be required revise its SIP to correct these deficiencies within 12 months of the effective date of our final rule. Written comments on the proposed rule were to be submitted to EPA on or before October 19, 2012. Two commentors requested an extension of the comment period for this proposed rulemaking. EPA is now reopening the public comment period for the September 19, 2012, 1-hour ozone SIP call for California for the South Coast area proposed rulemaking for fourteen days.

Dated: October 17, 2012.
Jared Blumenfeld,
Regional Administrator, EPA Region 9.

[FR Doc. 2012-26286 Filed 10-24-12; 8:45 am]

BILLING CODE 6560-50-P